FEDERAL COMMUNICATIONS COMMISSION

[OMB 3060-0740 and OMB 3060-0881; FR ID 310683]

Information Collections Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection burden on small business concerns with fewer than 25 employees.

The FCC may not conduct or sponsor a collection of information unless it displays a currently valid OMB control number. No person shall be subject to any penalty for failing to comply with a collection of information subject to the PRA that does not display a valid OMB control number.

DATES: Written PRA comments should be submitted on or before November 3, 2025. If you anticipate that you will be submitting comments but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control No.: 3060-0740.

Title: Section 95.2109, AMTS Notifications; 95.2195, LPRS Disclosures.

Form No.: Not applicable.

Type of Review: Extension of a currently approved collection.

Respondents: Business or other for-profit entities.

Number of Respondents and Responses: 26 respondents and 26 responses.

Estimated Time per Response: 1 hour.

Frequency of Response: On occasion reporting requirement, and third-party disclosure requirement.

Obligation to Respond: Required to obtain or retain benefits. The statutory authority for this collection of information is contained in 47 U.S.C. 154 and 303.

Total Annual Burden: 26 hours.

Annual Cost Burden: $1,300.

Needs and Uses: Manufacturers of Low Power Radio Service (LPRS) used for auditory assistance, health care assistance, and law enforcement tracking purposes must include with each transmitting device the following statement: “This transmitter is authorized by rule under the Low Power Radio Service (47 CFR part 95) and must not cause harmful interference to TV reception or United States Navy SPASUR installations. You do not need an FCC license to operate this transmitter. This transmitter may only be used to provide: Auditory assistance to persons with disabilities, persons who require language translation, or persons in educational settings; health care services to the ill; law enforcement tracking services under agreement with a law enforcement agency; or automated maritime telecommunications system (AMTS) network control communications. Two-way voice communications and all other types of uses not mentioned above are expressly prohibited.”

The reporting requirement contained in section 95.2109 states that Prior to operating a LPRS transmitter with an AMTS, the AMTS licensee must notify, in writing, each television station that may be affected by such operations, as defined in section 80.215(h). The notification provided with the station's license application is sufficient to satisfy this requirement if no new television stations would be affected.

The information collection requirement contained in section 95.2195 requires that manufacturers of LPRS transmitters used for auditory assistance, health care assistance, and law enforcement tracking purposes must include with each transmitting device the following statement:

This transmitter is authorized by rule under the Low Power Radio Service (47 CFR part 95) and must not cause harmful interference to TV reception or to the United States Air Force Space Surveillance System operating in the 216.88-217.08 MHz band. With the exception of automated maritime telecommunications system (AMTS) devices, you do not need an FCC license to operate this transmitter. This transmitter may only be used to provide: Auditory assistance to persons with disabilities, persons who require language translation, or persons in educational settings; health care services to the ill; law enforcement tracking services under agreement with a law enforcement agency; or AMTS network control communications. Two-way voice communications and all other types of uses not mentioned above are expressly prohibited.

Please note that sections 95.1015(a) and (b) were renumbered to sections 95.2195 and 95.2109 via FCC 17-57.

OMB Control No.: 3060-0881.

Title: Section 95.1961, Interference.

Form No.: N/A.

Type of Review: Extension of a currently approved collection.

Respondents: Business or other for-profit entities.

Number of Respondents and Responses: 18 respondents; 18 responses.

Estimated Time per Response: 1 hour.

Frequency of Response: Recordkeeping requirement, third party disclosure requirement, and on occasion reporting requirement.

Obligation to Respond: Required to obtain or retain benefits. The statutory authority for this collection of information is contained in 47 U.S.C. 151, 154(i) and 157, as amended.

Total Annual Burden: 18 hours.

Annual Cost Burden: $4,500.

Needs and Uses: On May 19, 2017, the Commission reformed its Part 95 rules. See Review of the Commission's Part 95 Personal Radio Service Rules, Report and Order, WT Docket 10-119, 32 FCC Rcd 4292 (2017). In that proceeding, the Commission renumbered certain Part 95 rules subject to this information collection without making substantive rule changes. For example, former rule § 95.861 is currently § 95.1961. With this submission to the Office of Management and Budget (OMB), we renumbered the rule sections accordingly.

Section 95.1961(c) requires that licensees in the 218-219 MHz service must provide a copy of its plan to every TV Channel 13 station whose Grade B predicted contour overlaps the licensed service area as required by § 95.1915(a) of the Commission's rules. This plan must include an analysis of the co- and adjacent channel interference potential of proposed systems in the 218-219 MHz service, identify methods being used to minimize interference, and show how the proposed systems will meet the service requirements set forth in § 95.1931 of the Commission's rules. This plan must be sent to the TV Channel 13 licensee(s) within 10 days from the date the 218-219 MHz service licensee submits the plan to the Commission. Updates to this plan must be sent to the TV Channel 13 licensee(s) within 10 days from the date that such updates are filed with the Commission pursuant to § 95.1915.

Section 95.1961(e) requires that each 218-219 MHz service licensee investigate and eliminate harmful interference to television broadcasting and reception, from its component cell transmitter stations (CTSs) and response transmitter units (RTUs) within 30 days of the time it is notified in writing, by either an affected television station, an affected viewer, or the Commission, of an interference complaint.

Federal Communications Commission.
Aleta Bowers,
Information Management Specialist, Office of the Secretary.

[FR Doc. 2025-16788 Filed 8-29-25; 8:45 am]

BILLING CODE 6712-01-P